INSTITUTE OF PEACE

Notice of Meeting

AGENCY: United States Institute of Peace.

Date/Time: Thursday, April 26, 2012 (9 a.m.-4 p.m.).

Location: 2301 Constitution Avenue NW., Washington, DC 20037.

Status: Open Session—Portions may be closed pursuant to Subsection (c) of Section 552(b) of Title 5, United States Code, as provided in subsection 1706(h)(3) of the United States Institute of Peace Act, Public Law 98-525.

Agenda: April 26, 2012 Board Meeting; Approval of Minutes of the One Hundred Forty-Second Meeting (January 26, 2012) of the Board of Directors; Chairman's Report; President's Report; Update on Management, Budget and Congress; Audit and Finance Committee FY 2011 Audit Report; National Peace Essay Contest, JR Fellowship and Grants Update; Board Executive Session; Other General Issues.

FOR FURTHER INFORMATION CONTACT: Tessie F. Higgs, Executive Office, Telephone: (202) 429-3836.

Dated: April 7, 2012.
Michael B. Graham,
Senior Vice President for Management and CFO, United States Institute of Peace.

[FR Doc. 2012-8979 Filed 4-16-12; 8:45 am]

BILLING CODE 6820-AR-M